DEPARTMENT OF TRANSPORTATION

National Highway Traffic Safety Administration

[Docket No. NHTSA 2005-20923; Notice 2]

Les Entreprises Michel Corbeil Inc., Grant of Petition for Decision of Inconsequential Noncompliance

Les Entreprises Michel Corbeil Inc. (Corbeil) has determined that certain vehicles that it produced in 1998 through 2005 do not comply with S9.3(c) of 49 CFR 571.111, Federal Motor Vehicle Safety Standard (FMVSS) No. 111, “Rearview mirrors.” Pursuant to 49 U.S.C. 30118(d) and 30120(h), Corbeil has petitioned for a determination that this noncompliance is inconsequential to motor vehicle safety and has filed an appropriate report pursuant to 49 CFR part 573, “Defect and Noncompliance Reports.” Notice of receipt of a petition was published, with a 30-day comment period, on April 18, 2005, in the Federal Register (70 FR 20204). NHTSA received no comments.

Affected are approximately 246 Corbeil school buses on Ford and GM chassis, manufactured from January 5, 1998 through February 15, 2005. S9.3(c) requires:

Each school bus which has a mirror installed in compliance with S9.3(a) that has an average radius of curvature of less than 889 mm, as determined under S12, shall have a label visible to the seated driver. The label shall be printed in a type face and color that are clear and conspicuous. The label shall state the following: “USE CROSS VIEW MIRRORS TO VIEW PEDESTRIANS WHILE BUS IS STOPPED. DO NOT USE THESE MIRRORS TO VIEW TRAFFIC WHILE BUS IS MOVING. IMAGES IN SUCH MIRRORS DO NOT ACCURATELY SHOW ANOTHER VEHICLE'S LOCATION.”

The noncompliant school buses were produced without the required label.

Corbeil believes that the noncompliance is inconsequential to motor vehicle safety and that no corrective action is warranted. Corbeil states that school bus drivers in general are instructed and aware of the use of these mirrors for pedestrian purposes only. Further, the petitioner asserts that a very small number of vehicles are affected, over a time period of eight years, and that a recall would cost approximately $10,000 Canadian due to the need to recall all 8471 school buses produced from 1998 to 2005 to determine which of the estimated noncompliant 2.9% lack the label required by S9.3(c). Corbeil has corrected the problem.

The agency agrees with Corbeil that the noncompliance is inconsequential to motor vehicle safety. As Corbeil states, all school bus drivers are trained to assure they are knowledgeable and skilled in the operation of buses including the use of these mirrors and the fact that these mirrors are used for pedestrian purposes only. The number of vehicles with noncompliant mirrors is relatively small, and Corbeil has made changes in its quality assurance process to prevent future occurrences of this problem.

In consideration of the foregoing, NHTSA has decided that the petitioner has met its burden of persuasion that the noncompliance described is inconsequential to motor vehicle safety. Accordingly, Corbeil's petition is granted and the petitioner is exempted from the obligation of providing notification of, and a remedy for, the noncompliance.

Authority: 49 U.S.C. 30118, 30120; delegations of authority at CFR 1.50 and 501.8.

Issued on: June 3, 2005.
Ronald L. Medford,
Senior Associate Administrator for Vehicle Safety.

[FR Doc. 05-11427 Filed 6-8-05; 8:45 am]

BILLING CODE 4910-59-P